DEPARTMENT OF THE INTERIOR

National Park Service

[N6880; NPS-WASO-NAGPRA-NPS0041868; PPWOCRADN0-PCU00RP14.R50000]

Notice of Inventory Completion: Los Angeles County Department of Medical Examiner, Los Angeles, CA

AGENCY: National Park Service, Interior.

ACTION: Notice.

SUMMARY: In accordance with the Native American Graves Protection and Repatriation Act (NAGPRA), the Los Angeles County Dept. of Medical Examiner (LAC DME) has completed an inventory of human remains and has determined that there is a cultural affiliation between the human remains and Indian Tribes or Native Hawaiian organizations in this notice.

DATES: Repatriation of the human remains in this notice may occur on or after February 17, 2026.

ADDRESSES: Send written requests for repatriation of the human remains in this notice to Inv. Deanne Morrell, 1104 N Mission Road, Los Angeles, CA 90033, email dmorrell@me.lacounty.gov.

SUPPLEMENTARY INFORMATION: This notice is published as part of the National Park Service's administrative responsibilities under NAGPRA. The determinations in this notice are the sole responsibility of the LAC DME, and additional information on the determinations in this notice, including the results of consultation, can be found in its inventory or related records. The National Park Service is not responsible for the determinations in this notice.

Abstract of Information Available

Human remains representing five individuals have been identified. No associated funerary objects are present. The five skulls were recovered by the LAC DME after a community member reported the findings to L.A. Police Department. The community member claimed that the five skulls were purchased by his father (who passed away in 2024) at an antique shop in Memphis, Tennessee in the 1980s. The skulls were reportedly found near a local construction site, according to the antique shop worker. The community member's father transported the five skulls back to his home in Woodland Hills, CA where they remained until his death.

Cultural Affiliation

Based on the information available and the results of consultation with the Cherokee Nation, The Chickasaw Nation, and The Choctaw Nation of Oklahoma, cultural affiliation is reasonably identified by the geographical location or acquisition history of the human remains described in this notice.

Determinations

The LAC DME has determined that:

• The human remains described in this notice represent the physical remains of five individuals of Native American ancestry.

• There is a connection between the human remains described in this notice and The Chickasaw Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after February 17, 2026. If competing requests for repatriation are received, the LAC DME must determine the most appropriate requestor prior to repatriation. Requests for joint repatriation of the human remains are considered a single request and not competing requests. The LAC DME is responsible for sending a copy of this notice to the Indian Tribes and Native Hawaiian organizations identified in this notice and any other consulting parties.

Authority: Native American Graves Protection and Repatriation Act, 25 U.S.C. 3003, and the implementing regulations, 43 CFR 10.10.

Dated: January 9, 2026.
Melanie O'Brien,
Manager, National NAGPRA Program.

[FR Doc. 2026-00869 Filed 1-15-26; 8:45 am]

BILLING CODE 4312-52-P